ENVIRONMENTAL PROTECTION AGENCY

40 CFR Part 721

[EPA-HQ-OPPT-2013-0225; FRL-9923-81]

RIN 2070-AJ99

Long-Chain Perfluoroalkyl Carboxylate and Perfluoroalkyl Sulfonate Chemical Substances; Significant New Use Rule; Extension of Comment Period

AGENCY: Environmental Protection Agency (EPA).

ACTION: Proposed rule; extension of comment period.

SUMMARY: EPA issued a proposed rule in the Federal Register January 21, 2015, concerning long-chain perfluoroalkyl carboxylate (LCPFAC) chemical substances and perfluoroalkyl sulfonate (PFAS) chemical substances. This document extends the comment period for 90 days, from March 23, 2015, to June 26, 2015. The comment period is being extended because EPA received several comments asserting that there may be significant implications for the supply chain and it is critical that interested stakeholders have sufficient time to respond to the proposed rulemaking.

DATES: The comment period for the proposed rule published on January 21, 2015 (80 FR 2885) is extended. Comments, identified by docket identification (ID) number EPA-HQ-OPPT-2013-0225, must be received on or before June 26, 2015.

ADDRESSES: Follow the detailed instructions provided under ADDRESSES in the Federal Register document of January 21, 2015 (80 FR 2885) (FRL-9915-63).

FOR FURTHER INFORMATION CONTACT: For technical information contact: Toni Krasnic, Chemical Control Division, Office of Pollution Prevention and Toxics, Environmental Protection Agency, 1200 Pennsylvania Ave. NW., Washington, DC 20460-0001; telephone number: (202) 564-0984; email address: krasnic.toni@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register proposed rule of January 21, 2015. This proposed rule for LCPFAC chemical substances is proposing to designate as a significant new use manufacturing (including importing) or processing of an identified subset of LCPFAC chemical substances for any use that will not be ongoing after December 31, 2015, and all other LCPFAC chemicals substances for which there are currently no ongoing uses. For this SNUR, EPA is also proposing to make inapplicable the exemption for persons who import LCPFAC chemical substances as part of articles. In addition, EPA is also proposing to amend a SNUR for PFAS chemical substances that would make inapplicable the exemption for persons who import PFAS chemical substances as part of carpets. EPA is hereby extending the comment period, which was set to end on March 23, 2015, to June 26, 2015.

To submit comments, or access the docket, please follow the detailed instructions provided under ADDRESSES in the Federal Register document of January 21, 2015. If you have questions, consult the technical person listed under FOR FURTHER INFORMATION CONTACT.

List of Subjects in 40 CFR Part 721

Environmental protection, Chemicals, Hazardous substances, Reporting and recordkeeping requirements.

Dated: March 9, 2014.
Wendy C. Hamnett,
Director, Office of Pollution Prevention and Toxics.

[FR Doc. 2015-05958 Filed 3-13-15; 8:45 am]

BILLING CODE 6560-50-P